DEPARTMENT OF DEFENSE

Department of the Army, Corps of Engineers

33 CFR Part 273

RIN 0710-AB36

Aquatic Plant Control

AGENCY: U.S. Army Corps of Engineers, Department of Defense.

ACTION: Final rule.

SUMMARY: This final rule removes the U.S. Army Corps of Engineers part titled Aquatic Plant Control. This part is redundant and otherwise covers internal agency operations that have no public compliance component or adverse public impact. Therefore, this part can be removed from the Code of Federal Regulations (CFR).

DATES: This rule is effective on July 14, 2021.

ADDRESSES: Department of the Army, U.S. Army Corps of Engineers, ATTN: CECW-P (Mr. Jeremy Crossland), 441 G Street NW, Washington, DC 20314-1000.

FOR FURTHER INFORMATION CONTACT: Mr. Jeremy Crossland at (202) 761-4259 or by email at Jeremy.M.Crossland@usace.army.mil.

SUPPLEMENTARY INFORMATION: This final rule removes from the CFR part 273 of title 33, “Aquatic Plant Control,” which prescribes policies, procedures and guidelines for research, planning and operations for the Aquatic Plant Control Program of the Corps under authority of section 104 of the Rivers and Harbors Act of 1958, as amended by section 104 of the Rivers and Harbors Act of 1962 and Section 302 of the Rivers and Harbors Act of 1965. This law, codified at 33 U.S.C. 610 has been amended several more times, most recently by section 1039(d) of the Water Resources Reform and Development Act of 2014 and section 1178(b) of the Water Resources Development Act of 2016. The Aquatic Plant Control Program is designed to deal primarily with weed infestations of major economic significance including those that have reached that stage and those that have that potential in navigable waters, tributaries, streams, connecting channels and allied waters. The regulation governs a program that manages cost-share authority between the Federal government and another governmental agency. This rule was initially published on June 3, 1976 (41 FR 22346). While the rule applies only to the Corps' Aquatic Plant Program, it was published, at that time, in the Federal Register to aid public accessibility.

The solicitation of public comment for this removal is unnecessary because the rule is out-of-date, duplicative of existing internal agency guidance, and otherwise covers internal agency operations that have no public compliance component or adverse public impact. For current public accessibility purposes, updated internal agency policy on this topic may be found in Engineer Regulation 1130-2-500, “Project Operations Partners and Support (Work Management Policies)” (available at https://www.publications.usace.army.mil/Portals/76/Publications/EngineerRegulations/ER_1130-2-500.pdf). The agency policy is only applicable to field operating activities having responsibility for the Aquatic Plant Program projects and provides guidance specific to the Corps' control of aquatic plants.

This rule removal is being conducted to reduce confusion for the public as well as for the Corps regarding the current policy which governs the Corps' Aquatic Plant Program. Because the regulation does not place a burden on the public, its removal does not provide a reduction in public burden or costs.

This rule is not significant under Executive Order (E.O.) 12866, “Regulatory Planning and Review.”

List of Subjects in 33 CFR Part 273

Aquatic plant control, Pesticides and pests, Waterways.

PART 273—[REMOVED]

Accordingly, by the authority of 5 U.S.C. 301, 33 CFR part 273 is removed.

Date: July 1, 2021.
Jaime A. Pinkham,
Acting Assistant Secretary of the Army (Civil Works).

[FR Doc. 2021-14719 Filed 7-13-21; 8:45 am]

BILLING CODE 3720-58-P